DEPARTMENT OF TRANSPORTATION

Coast Guard

33 CFR Part 165

[COTP San Francisco Bay 02-003]

RIN 2115-AA97

Safety Zone; Carquinez Strait, Vallejo and Crockett, CA

AGENCY: Coast Guard, DOT.

ACTION: Temporary final rule.

SUMMARY: The Coast Guard is establishing a temporary safety zone in the navigable waters of the Carquinez Strait surrounding the construction site of the new U.S. Interstate 80 bridge (Alfred Zampa Memorial Bridge) over a 30-day period. The purpose of this safety zone is to protect persons and vessels from hazards associated with bridge construction activities. The safety zone temporarily prohibits use of the Carquinez Strait waters surrounding the Alfred Zampa Memorial Bridge.

DATES: This rule is effective from 7:30 a.m. June 17, 2002 to 12 (noon) July 16, 2002.

ADDRESSES: Comments and material received from the public, as well as documents indicated in this preamble as being available in the docket, are part of docket (COTP San Francisco Bay 02-003) and are available for inspection or copying at the Waterways Management Branch of the U.S. Coast Guard Marine Safety Office San Francisco Bay, Coast Guard Island, Building 14, Alameda, California 94501-5100, between 9 a.m. and 4 p.m., Monday through Friday, except Federal holidays.

FOR FURTHER INFORMATION CONTACT: Lieutenant Ross Sargent, Chief, Waterways Management Branch, U.S. Coast Guard Marine Safety Office San Francisco Bay, at (510) 437-3073.

SUPPLEMENTARY INFORMATION:

Regulatory Information

On April 16, 2002, we published a notice of proposed rulemaking (NPRM) entitled “Safety Zone; Carquinez Strait, Vallejo and Crockett, California” in the Federal Register (67 FR 18523). We received no letters commenting on the proposed rule. No public hearing was requested, and none was held. Under 5 U.S.C. 553(d)(3), the Coast Guard finds that good cause exists for making this rule effective less than 30 days after publication in the Federal Register. The rulemaking process began in April 2002 when construction planning reached a stage of specificity sufficient for publishing the channel closure schedule. The publication of that schedule in the notice of proposed rulemaking (67 FR 18523) initiated a rulemaking process that encroached on the first channel closure periods. Accordingly, since timely cable stringing (discussed in Background and Purpose section) is crucial to the success of the entire bridge construction project, the channel closures must begin on June 17, 2002, less than 30 days after publication of this final rule.

Background and Purpose

The State of California Department of Transportation (CALTRANS) has determined that the original bridge spanning the Carquinez Strait must be replaced. CALTRANS has begun construction on the new bridge (Alfred Zampa Memorial Bridge) and is nearing a phase that will involve stringing steel cables across the Carquinez Strait. More specifically, the cable stringing process will involve attaching an approximately 1.5-inch diameter steel cable at the bridge's southern terminus and deploying the cable from a reel-equipped barge as it is towed northward. The cable itself will be partially submerged in the Carquinez Strait until it is connected to the northern terminus, winched upward and secured approximately 150 feet above the Carquinez Strait. The deployment phase will take approximately five hours for each cable.

In February 2002, CALTRANS advised the Coast Guard Captain of the Port that a series of channel closures would be necessary in order to accomplish the cable stringing. The Coast Guard, along with CALTRANS, the contractor, a joint venture of FCI Constructors, Inc./Cleveland Bridge California, Inc. (FCI/CB), and the San Francisco Bar Pilots, planned the logistics for the closures in order to ensure minimal impacts on involved and potentially involved entities. On April 16, 2002, the Coast Guard published a notice of proposed rulemaking (NPRM) titled “Safety Zone; Carquinez Strait, Vallejo and Crockett, California” in the Federal Register (67 FR 18523). We received no letters commenting on the proposed rule.

The purpose of this safety zone is to protect persons and vessels from hazards, injury and damage associated with the bridge construction activities, and cable stringing in particular. One of the dangers during the cable deployment phase is the partially submerged cable that could inflict serious injury or death to mariners, as well as cause major damage to the hull, propeller and rudder of vessels, attempting to pass over it. Similarly, the cable deployment barge, its towing vessel and towing line all pose significant collision dangers to vessels transiting the area. In addition, when the heavy 1.5-inch thick steel cable is being winched to approximately 150 feet above the Strait, it may part or break loose and fall upon vessels below.

This temporary safety zone in the navigable waters of the Carquinez Strait surrounding the construction site of the Alfred Zampa Memorial Bridge will be in effect during the course of a 30-day period, but will only be enforced for approximately five hours in a given day. The times will be different for each day based on factors that will be explained in detail in the Discussion of Rule section of this preamble. In addition, this safety zone will not be enforced every day during the 30-day period.

Discussion of Comments and Changes

On April 16, 2002, we published a notice of proposed rulemaking (NPRM) entitled “Safety Zone; Carquinez Strait, Vallejo and Crockett, California” in the Federal Register (67 FR 18523). We received no letters commenting on the proposed rule. No public hearing was requested, and none was held. Several minor changes in the channel closure schedule (closure times on several days) were incorporated into the temporary final rule based on further planning with the San Francisco Bar Pilots and CALTRANS, minor errors in tide times, and to accommodate minor changes in the cable stringing process. These changes should lessen the impact on vessel traffic. With one exception, these changes consist of a 30 to 60 minute shift of the five-hour period on several days. These dates are June 27, 2002; June 28, 2002; June 29, 2002 and July 10, 2002. The other change consists of a shift in time, six and a half hours earlier in the morning on June 26, 2002, which should accommodate vessel traffic better than the originally published closure time for that date.

Discussion of Rule

The Coast Guard is establishing a safety zone that will be enforced for approximately five hours per day on certain days between June 17, 2002 and July 16, 2002. The safety zone is necessary to protect persons and vessels from hazards, injury and damage associated with the bridge construction activities, and cable stringing in particular. The safety zone will encompass the navigable waters, from the surface to the bottom, within two lines; one line drawn from the westernmost pier at Crockett Marina [38°03′28″ N, 122°13′42″ W] extending due north to the opposite shore [38°03′56″ N, 122°13′42″ W], and the other line drawn from the western end of the C & H Sugar facility [38°03′28″ N, 122°13′26″ W] extending due north to the opposite shore [38°03′54″ N, 122°13′26″ W][Datum: NAD 83].

The dates and approximate enforcement times are based on certain factors that were considered by the U.S. Coast Guard, San Francisco Bar Pilots, and the contractor, FCI/CB. These factors included working with favorable tides and currents; and minimizing closures during darkness, and the Fourth of July holiday. The safety zone will be enforced for approximately five hours at a time. On some days the safety zone may be enforced for less than five hours. The approximate period of five hours is based on the time required to string each of the cables from the bridge's southern terminus to its northern terminus. Although the approximate times set forth below are for a duration of approximately four and a half hours in length, more precise times will be known during the first few days that the safety zone will be enforced.

CALTRANS selected the channel closure periods to provide adequate safety to construction crews and vessels transiting the area, while minimizing the impact on vessels transiting through the Strait. As with other construction projects, there are certain unknown factors, such as weather conditions and possible unforeseen problems that will only be known on a particular day during the cable stringing process. Therefore, the safety zone enforcement periods are approximate times only. During the days of construction, when further information becomes available about the exact times that the safety zone will be enforced, the Captain of the Port will advise the public in several ways. Mariners that will or could be effected by the channel closures are advised to monitor for broadcast notice to mariners alerts on VHF-FM marine channel 16 or contact the Captain of the Port representative on scene via VHF-FM marine channel 22. Vessel Movement Reporting System users (VMRS users) will be similarly advised by Coast Guard Vessel Traffic Service San Francisco via VHF-FM marine channel 14. The safety zone dates and approximate enforcement times are as follows:

Date | Safety zone in effect | Safety zone expires
June 17, 2002 | 7:30 a.m. | 12 (noon).
June 18, 2002 | 9 a.m. | 1:30 p.m.
June 19, 2002 | 10 a.m. | 2:30 p.m.
June 20, 2002 | 11:30 a.m. | 4 p.m.
June 21, 2002 | 1 p.m. | 5:30 p.m.
June 22, 2002 | 8 a.m. | 12:30 p.m.
June 23, 2002 | 9 a.m. | 1:30 p.m.
June 24, 2002 | 9:30 a.m. | 2 p.m.
June 25, 2002 | 10 a.m. | 2:30 p.m.
June 26, 2002 | 4 a.m. | 8:30 a.m.
June 27, 2002 | 4:30 a.m. | 9 a.m.
June 28, 2002 | 5:30 a.m. | 10 a.m.
June 29, 2002 | 6:30 a.m. | 11 a.m.
June 30, 2002 | 6:30 a.m. | 11 a.m.
July 1, 2002 | 7:30 a.m. | 12 (noon).
July 2, 2002 | 8:30 a.m. | 1 p.m.
July 3, 2002 | 5 a.m. | 9:30 a.m.
July 4, 2002 | No safety zone enforced
July 5, 2002 | No safety zone enforced
July 6, 2002 | No safety zone enforced
July 7, 2002 | No safety zone enforced
July 8, 2002 | 8:30 a.m. | 1 p.m.
July 9, 2002 | 9:30 a.m. | 2 p.m.
July 10, 2002 | 10 a.m. | 2:30 p.m.
July 11, 2002 | 10:30 a.m. | 3 p.m.
July 12, 2002 | 4 a.m. | 8:30 a.m.
July 13, 2002 | 5 a.m. | 9:30 a.m.
July 14, 2002 | 5:30 a.m. | 10 a.m.
July 15, 2002 | 7 a.m. | 11:30a.m.
July 16, 2002 | 7:30 a.m. | 12 (noon).

Regulatory Evaluation

This temporary final rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Transportation (DOT)(44 FR 11040, February 26, 1979).

We expect the economic impact of this temporary final rule to be so minimal that a full Regulatory Evaluation under paragraph 10e of the regulatory policies and procedures of DOT is unnecessary.

The effect of this rule will not be significant for several reasons. The San Francisco Bar Pilots, responsible for guiding all deep draft commercial vessels in the area of the safety zone, have worked closely with CALTRANS, the contractor, and the U.S. Coast Guard in order to ensure minimal impact to deep draft commercial vessel traffic. The safety zone will be enforced for approximately five hours per day, taking into account tides, currents, daylight and vessel traffic patterns. In addition, we have attempted to minimize impacts on the regional commercial and sport fishing industries. Finally, advance notifications of the channel closures will be made to the local maritime community by broadcast notice to mariner alerts over marine band radio, on-scene Captain of the Port representatives and Coast Guard Vessel Traffic Service radio communications.

The changes to the regulatory text in the notice of proposed rulemaking are minor. The temporary final rule reflects several changes in channel closure times based on further planning with the San Francisco Bar Pilots and CALTRANS, minor errors in tide times, and to accommodate minor changes in the cable stringing process. These changes consist of a 30 to 60 minute shift of the five-hour period on several days, with one exception, and thus do not significantly impact vessel transits through the area. The other change consists of a shift in time, six and a half hours earlier in the morning on June 26, 2002, which should accommodate vessel traffic better than the originally published closure time for that date.

Small Entities

Under the Regulatory Flexibility Act (5 U.S.C. 601-612), we have considered whether this final rule will have a significant economic impact on a substantial number of small entities. The term “small entities” comprises small businesses, not-for-profit organizations that are independently owned and operated and are not dominant in their fields, and governmental jurisdictions with populations of less than 50,000.

The Coast Guard certifies under 5 U.S.C. 605(b) that this temporary final rule will not have a significant economic impact on a substantial number of small entities. This rule will affect the following entities, some of which might be small entities: the owners or operators of commercial shrimp or charter fishing vessels intending to transit through the Alfred Zampa Memorial Bridge construction area during safety zone enforcement periods (temporary channel closures). Additionally, since recreational sport fishing vessels will not be able to transit the channel during temporary channel closures, and thus possibly divert to fish at other places and times, local bait and tackle businesses may be impacted.

This safety zone will not have a significant economic impact on a substantial number of small entities for the following reasons. Although the safety zone will apply to the entire width of the Carquinez Strait, the rule will normally be enforced for five hours usually early in the day, during the height of the day's first tidal cycle. Such predictability will enable fishing vessels to schedule transits through the safety zone area before or after the 5-hour safety zone enforcement periods. Before and during the enforcement periods, Captain of the Port representatives in patrol vessels will assume their stations to the east and west of the safety zone to provide notice and enforcement of the zone. The Coast Guard will also issue broadcast notice to mariners alerts via VHF-FM marine channel 16 before the safety zone is enforced.

Several minor changes in the channel closure schedule (closure times on several days) were incorporated into the temporary final rule to accommodate changes in the cable stringing plan. These changes should not significantly impact vessel traffic or small entities, as discussed in the Regulatory Evaluation section.

If you think that your business, organization, or governmental jurisdiction qualifies as a small entity and that this rule will have a significant economic impact on it, please submit a comment (see ADDRESSES) explaining why you think it qualifies and how and to what degree this rule will economically affect it.

Assistance for Small Entities

Under section 213(a) of the Small Business Regulatory Enforcement Fairness Act of 1996 (Pub. L. 104-121), we offered to assist small entities in understanding the rule so that they could better evaluate its effects on them and participate in the rulemaking process.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule would call for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this final rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this temporary final rule will not result in such an expenditure, we do discuss the effects of this rule elsewhere in this preamble.

Taking of Private Property

This temporary final rule would not effect a taking of private property or otherwise have taking implications under Executive Order 12630, Governmental Actions and Interference with Constitutionally Protected Property Rights.

Civil Justice Reform

This final rule meets applicable standards in sections 3(a) and 3(b)(2) of Executive Order 12988, Civil Justice Reform, to minimize litigation, eliminate ambiguity, and reduce burden.

Protection of Children

We have analyzed this final rule under Executive Order 13045, Protection of Children from Environmental Health Risks and Safety Risks. This rule is not an economically significant rule and will not create an environmental risk to health or risk to safety that might disproportionately affect children.

Indian Tribal Governments

This final rule does not have tribal implications under Executive Order 13175, Consultation and Coordination with Indian Tribal Governments, because it will not have a substantial direct effect on one or more Indian tribes, on the relationship between the Federal Government and Indian tribes, or on the distribution of power and responsibilities between the Federal Government and Indian tribes.

To help the Coast Guard establish regular and meaningful consultation and collaboration with Indian and Alaskan Native tribes, we published a notice in the Federal Register (66 FR 36361, July 11, 2001) requesting comments on how to best carry out the Order.

Energy Effects

We have analyzed this final rule under Executive Order 13211, Actions Concerning Regulations That Significantly Affect Energy Supply, Distribution, or Use. We have determined that it is not a “significant energy action” under that Order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We have considered the environmental impact of this final rule and concluded that, under figure 2-1, paragraph (34)(g), of Commandant Instruction M16475.lD, this rule is categorically excluded from further environmental documentation because it is a safety zone. A “Categorical Exclusion Determination” is available in the docket where indicated under ADDRESSES.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1231; 50 U.S.C. 191, 33 CFR 1.05-1(g), 6.04-1, 6.04-6, 160.5; 49 CFR 1.46.

2. From 7:30 a.m., June 17, 2002 until 12 (noon), July 16, 2002, add new § 165.T11-078 to read as follows:

§ 165.T11-078 Safety Zone; Carquinez Strait, Vallejo and Crockett, CA.

(a) Location. The safety zone encompasses the navigable waters, from the surface to the bottom, within two lines; one line drawn from the westernmost pier at Crockett Marina [38°03′28″ N, 122°13′42″ W] extending due north to the opposite shore [38°03′56″ N, 122°13′42″ W], and the other line drawn from the western end of the C & H Sugar facility [38°03′28″ N, 122°13′26″ W] extending due north to the opposite shore [38°03′54″ N, 122°13′26″ W]. [Datum: NAD 83].

(b) Effective period. This section is effective from 7:30 a.m., June 17, 2002 to 12 (noon), July 16, 2002.

(c) Enforcement periods. The Coast Guard will notify the maritime public of the precise times for enforcement of the safety zone via broadcast notice to mariners, Vessel Traffic Service radio communications, and Captain of the Port representatives on scene. If the safety zone is no longer needed prior to the scheduled termination times, the Captain of the Port will cease enforcement of this safety zone and will announce that fact via broadcast notice to mariners. The safety zone enforcement dates and times are as follows:

Date | Safety zone in effect | Safety zone expires
June 17, 2002 | 7:30 a.m. | 12 (noon).
June 18, 2002 | 9 a.m. | 1:30 p.m.
June 19, 2002 | 10 a.m. | 2:30 p.m.
June 20, 2002 | 11:30 a.m. | 4 p.m.
June 21, 2002 | 1 p.m. | 5:30 p.m.
June 22, 2002 | 8 a.m. | 12:30 p.m.
June 23, 2002 | 9 a.m. | 1:30 p.m.
June 24, 2002 | 9:30 a.m. | 2 p.m.
June 25, 2002 | 10 a.m. | 2:30 p.m.
June 26, 2002 | 4 a.m. | 8:30 a.m.
June 27, 2002 | 4:30 a.m. | 9 a.m.
June 28, 2002 | 5:30 a.m. | 10 a.m.
June 29, 2002 | 6:30 a.m. | 11 a.m.
June 30, 2002 | 6:30 a.m. | 11 a.m.
July 1, 2002 | 7:30 a.m. | 12 (noon).
July 2, 2002 | 8:30 a.m. | 1 p.m.
July 3, 2002 | 5 a.m. | 9:30 a.m.
July 4, 2002 | No safety zone enforced
July 5, 2002 | No safety zone enforced
July 6, 2002 | No safety zone enforced
July 7, 2002 | No safety zone enforced
July 8, 2002 | 8:30 a.m. | 1 p.m.
July 9, 2002 | 9:30 a.m. | 2 p.m.
July 10, 2002 | 10 a.m. | 2:30 p.m.
July 11, 2002 | 10:30 a.m. | 3 p.m.
July 12, 2002 | 4 a.m. | 8:30 a.m.
July 13, 2002 | 5 a.m. | 9:30 a.m.
July 14, 2002 | 5:30 a.m. | 10 a.m.
July 15, 2002 | 7 a.m. | 11:30 a.m.
July 16, 2002 | 7:30 a.m. | 12 (noon).

(d) Regulations. In accordance with the general regulations in § 165.23 of this part, no person or vessel may enter, transit through, or anchor within this safety zone unless authorized by the Captain of the Port, or his designated representative.

Dated: May 23, 2002.
L.L. Hereth,
Captain, U.S. Coast Guard, Captain of the Port, San Francisco Bay.

[FR Doc. 02-14358 Filed 6-6-02; 8:45 am]

BILLING CODE 4910-15-P